DEPARTMENT OF THE INTERIOR

Fish and Wildlife Service

[FWS-R2-ES-2008-N007], [20124-1113-0000-F5]

Endangered and Threatened Species Permit Applications

AGENCY: Fish and Wildlife Service, Interior.

ACTION: Notice of receipt of applications.

SUMMARY: The following applicants have applied for scientific research permits to conduct certain activities with endangered species pursuant to section 10(a) (1) (A) of the Endangered Species Act of 1973, as amended.

DATES: To ensure consideration, written comments must be received on or before February 29, 2008. Comments must be submitted before midnight (Eastern Standard Time) on the date specified in the DATES section.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave., SW., Room 4102, Albuquerque, New Mexico. Please refer to the respective permit number for each application when submitting comments.

FOR FURTHER INFORMATION CONTACT: Chief, Endangered Species Division, P.O. Box 1306, Room 4102, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-169770

Applicant: New Mexico Interstate Stream Commission, Santa Fe, New Mexico.

Applicant requests a new permit for research and recovery purposes to conduct presence/absence surveys of Rio Grande silvery minnow (Hybognathus amarus) within New Mexico.

Permit TE-166070

Applicant: New Mexico Department of Game and Fish, Santa Fe, New Mexico.

Applicant requests an amendment to an existing permit for research and recovery purposes to conduct presence/absence surveys of Gila chub (Gila intermedia) within New Mexico.

Permit TE-168189

Applicant: Michael Green, Texas State University, San Marcos, Texas.

Applicant requests a new permit for research and recovery purposes to conduct presence/absence surveys of black capped vireo (Vireo atricapilla) within Texas.

Permit TE-168185

Applicant: Cox McLain Environmental Consulting, Inc., Austin, Texas.

Applicant requests a new permit to conduct presence/absence surveys for research and recovery purposes for the following species: black capped-vireo (Vireo atricapilla), golden-checked warbler (Dendroica chrysoparia), Attwater's prairie chicken (Tynpanuchus cupido attwateri), Northern aplomado falcon (Falco fernoralis septentrionalis), piping plover (Charadrius melodus), red-cockaded woodpecker (Picoides borealis), interior least tern (Sterna antillarium) and Houston toad (Bufo houstonensis) within Texas.

Permit TE-036436

Applicant: Environmental Planning Group, Tucson, Arizona.

Applicant requests an amendment to a previous permit for research and recovery purposes to conduct presence/absence surveys for lesser long-nosed bat (Leptonycteris curasoae yerbabuenae) within Arizona.

Permit TE-168688

Applicant: Sarah Itz, Austin, Texas.

Applicant requests a new permit for research and recovery purposes to conduct presence/absence surveys for the following species: black-capped vireo (Vireo atricapilla) and golden-checked warbler (Dendroica chrysoparia) within Texas.

Authority: 16 U.S.C. 1531 et seq.

Dated: January 14, 2008.
Christopher T. Jones,
Acting Regional Director, Southwest Region, Fish and Wildlife Service.

[FR Doc. E8-1605 Filed 1-29-08; 8:45 am]

BILLING CODE 4310-55-P